DEPARTMENT OF COMMERCE

International Trade Administration

(A-570-848)

Continuation of Antidumping Duty Order on Freshwater Crawfish Tail Meat from the People's Republic of China

AGENCY: Import Administration, International Trade Administration, Department of Commerce.

SUMMARY: As a result of the determinations by the Department of Commerce (Department) and the International Trade Commission (ITC) that revocation of the antidumping duty order on freshwater crawfish tail meat (crawfish) from the People's Republic of China (PRC) would likely lead to a continuation or recurrence of dumping and material injury to an industry in the United States, the Department is publishing a notice of continuation for the antidumping duty order.

EFFECTIVE DATE: December 11, 2008.

FOR FURTHER INFORMATION CONTACT: Lyn Johnson or Minoo Hatten, AD/CVD Operations, Office 5, Import Administration, International Trade Administration, U.S. Department of Commerce, 14th Street and Constitution Avenue, NW, Washington, DC 20230; telephone: (202) 482-5287 and (202) 482-1690, respectively.

SUPPLEMENTARY INFORMATION:

Background

On July 1, 2008, the Department initiated and the ITC instituted the second sunset review of the antidumping duty order on crawfish from the PRC pursuant to section 751(c) of the Tariff Act of 1930, as amended (the Act). See Initiation of Five&year (“Sunset”) Review, 73 FR 37411 (July 1, 2008); see also Institution of a Fiv&year Review Concerning the Antidumping Duty Order on Crawfish Tail Meat from China, 73 FR 37489 (July 1, 2008).

As a result of its review, the Department determined that revocation of the antidumping duty order on crawfish from the PRC would likely lead to a continuation or recurrence of dumping and, therefore, notified the ITC of the magnitude of the margins likely to prevail should the order be revoked. See Freshwater Crawfish Tail Meat from the People's Republic of China: Final Results of the Second Expedited Sunset Review of the Antidumping Duty Order, 73 FR 65832 (November 5, 2008).

On November 25, 2008, the ITC determined, pursuant to section 751(c) of the Act, that revocation of the antidumping duty order on crawfish from the PRC would likely lead to a continuation or recurrence of material injury to an industry in the United States within a reasonable foreseeable future. See Crawfish Tail Meat from China (Inv. No. 731-TA-752 (Second Review)), USITC Publication 4047 (November 25, 2008); see also Crawfish Tail Meat from China, 73 FR 72833 (December 1, 2008).

Scope of Order

The product covered by this antidumping duty order is freshwater crawfish, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the new HTSUS numbers for prepared foodstuffs, indicating peeled crawfish tail meat and other, as introduced by the CBP in 2000, and HTSUS numbers 0306.19.00.10 and 0306.29.00.00, which are reserved for fish and crustaceans in general. The HTSUS subheadings are provided for convenience and customs purposes only. The written description of the scope of this order is dispositive.

Continuation of the Order

As a result of these determinations by the Department and the ITC that revocation of the antidumping duty order would likely lead to a continuation or recurrence of dumping and material injury to an industry in the United states, pursuant to section 751(d)(2) of the Act, the Department hereby orders the continuation of the antidumping duty order on crawfish from the PRC. U.S. Customs and Border Protection will continue to collect antidumping duty cash deposits at the rates in effect at the time of entry for all imports of subject merchandise.

The effective date of the continuation of the order will be the date of publication in the Federal Register of this notice of continuation. Pursuant to section 751(c)(2) of the Act, the Department intends to initiate the next five-year review of the order not later than 30 days prior to the fifth anniversary of the effective date of continuation.

This five-year sunset review and this notice are in accordance with section 751(c) of the Act and published pursuant to section 777(i)(1) of the Act.

Dated: December 4, 2008.
David M. Spooner,
Assistant Secretary for Import Administration.

[FR Doc. E8-29392 Filed 12-10-08; 8:45 am]

BILLING CODE 3510-DS-S